DEPARTMENT OF THE INTERIOR

National Park Service

[NPS-WASO-NAGPRA-22444; PPWOCRADN0-PCU00RP14.R50000]

Notice of Inventory Completion: Thomas Burke Memorial Washington State Museum, University of Washington, Seattle, WA; Correction

AGENCY: National Park Service, Interior.

ACTION: Notice; correction.

SUMMARY: The Thomas Burke Memorial Washington State Museum, University of Washington (Burke Museum) has corrected an inventory of human remains and associated funerary objects, published in a Notice of Inventory Completion in the Federal Register on January 19, 2016. This notice corrects the total number of associated funerary objects and the transfer of control determination. Lineal descendants or representatives of any Indian tribe or Native Hawaiian organization not identified in this notice that wish to request transfer of control of these human remains and associated funerary objects should submit a written request to the Burke Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum at the address in this notice by January 17, 2017.

ADDRESSES: Peter Lape, Burke Museum, University of Washington, Box 353010, Seattle, WA 98195, telephone (206) 685-3849 x2, email plape@uw.edu.

SUPPLEMENTARY INFORMATION: Notice is here given in accordance with the Native American Graves Protection and Repatriation Act (NAGPRA), 25 U.S.C. 3003, of the correction of an inventory of human remains and associated funerary objects under the control of the Burke Museum, Seattle, WA. The human remains and associated funerary objects were removed from Island County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the total number of associated funerary objects and to whom the Burke Museum will transfer control of the items published in a Notice of Inventory Completion in the Federal Register (81 FR 2901-2902, January 19, 2016). This notice also corrects the list of Indian tribes in the determination of Additional Requestors and Disposition. Transfer of control of the items in this correction notice has not occurred.

Correction

In the Federal Register (81 FR 2902, January 19, 2016), column 1, paragraph 3 is corrected by substituting the following sentence:

The 35 associated funerary objects are 2 lots of unmodified wood; 2 lots of wood grave stakes; 2 metal objects; 1 pair of scissors; 1 black plastic comb; 2 shells; 1 modified bone fragment; 1 lot of unmodified bone fragment; 1 stone abrader; 1 .22 caliber gun; 3 bags of buttons (glass, porcelain, bone, copper); 8 U.S. coins; 1 porcelain doll head; 1 bag containing metal buckle fragments; 1 lot of marbles; 1 stone ulu; and 6 composite artifact bags containing wood, nails, charcoal, pebbles, metal, leather, watch faces, a watch chain, and organic and inorganic materials.

In the Federal Register (81 FR 2902, January 19, 2016), column 1, paragraph 5 is corrected by replacing the number “35” with the number “36.”

In the Federal Register (81 FR 2902, January 19, 2016), column 1, paragraph 6, sentence 2, under the heading “Additional Requestors and Disposition” is corrected by substituting the following sentence:

After that date, if no additional requestors have come forward, transfer of control of the human remains and associated funerary objects to the Stillaguamish Tribe of Indians of Washington (previously listed as the Stillaguamish Tribe of Washington); Swinomish Indian Tribal Community (previously listed as the Swinomish Indians of the Swinomish Reservation of Washington); and the Tulalip Tribes of Washington (previously listed as the Tulalip Tribes of the Tulalip Reservation, Washington) may proceed.

The Burke Museum is responsible for notifying the Lummi Tribe of the Lummi Reservation; Samish Indian Nation (previously listed as the Samish Indian Tribe, Washington); Sauk-Suiattle Indian Tribe; Stillaguamish Tribe of Indians of Washington (previously listed as the Stillaguamish Tribe of Washington); Swinomish Indian Tribal Community (previously listed as the Swinomish Indians of the Swinomish Reservation of Washington); Tulalip Tribes of Washington (previously listed as the Tulalip Tribes of the Tulalip Reservation, Washington); and the Upper Skagit Indian Tribe that this notice has been published.

Dated: November 17, 2016.
Melanie O'Brien,
Manager, National NAGPRA Program.

[FR Doc. 2016-30337 Filed 12-15-16; 8:45 am]

BILLING CODE 4312-52-P